NATIONAL SCIENCE FOUNDATION

Advisory Committee for Education and Human Resources; Notice of Meeting

In accordance with Federal Advisory Committee Act (Pub. L. 92-463, as amended), the National Science Foundation announces the following meeting:

Name: Advisory Committee for Education and Human Resources (#1119).

Date/Time: May 3, 2006; 8:30 a.m. to 5 p.m. May 4, 2006; 8:30 a.m. to 12 p.m.

Place: The Westin Arlington Gateway Hotel, Louisa May Alcott Board Room, 801 North Glebe Road, Arlington, VA 22202.

Type of Meeting: Open.

Contact Person: James Colby, National Science Foundation, 4201 Wilson Boulevard, Arlington, VA 22230. (703) 292-5331. If you are attending the meeting and need access to the NSF, please contact the individual listed above so your name may be added to the building access list.

Purpose of Meeting: To provide advice with respect to the Foundation's education and human resources programming.

Agenda:

May 3, 2006 (Wednesday)

Time/Activity

8 a.m. Assemble in Louisa May Alcott Board Room, Westini Arlington Hotel

8:30 a.m.

• Introduction of New Members

• Remarks by the Chair

9 a.m. Assistant Director's Report and Table Conversation

10 a.m. Break

10:15 a.m. Presentation on Proposed EHR Realignment, Table Discussion

Noon: Lunch (Place TBD)

1:30 p.m. Report on Evaluation Activities

2:15 p.m. NSF Strategic Plan Discussion

2:45 p.m. Break

3 p.m. EHR “Big Ideas” Discussion

4 p.m. COV Reports & Discussion

5 p.m. Recess

May 4, 2006 (Thursday)

Time/Activity

8 a.m. Assemble in Louisa May Alcott Board Room

8:30 a.m. Wrap up on Realignment Discussions

9:30 a.m. Question Development for Director, Deputy Director Visit

10:30 a.m. Break

11 a.m. Director, Deputy Director Visit

Noon: Closing Remarks

• Housekeeping Chore: set future meeting dates

12:30 p.m. Adjourn

Dated: April 11, 2006.
Susanne Bolton,
Committee Management Officer.

[FR Doc. 06-3604 Filed 4-13-06; 8:45 am]

BILLING CODE 7555-01-M